DEPARTMENT OF DEFENSE

Department of the Army; Corps of Engineers

Cancellation of the Notice of Intent To Prepare a Draft Environmental Impact Statement for the L-31N Seepage Management Pilot Project

AGENCY: Department of the Army, U.S. Army Corps of Engineers, DoD.

ACTION: Cancellation notice.

SUMMARY: The Jacksonville District, U.S. Army Corps of Engineers (Corps), hereby cancels its Notice of Intent to prepare a Draft Environmental Impact Statement (DEIS) as published in 67 FR 43590, June 28, 2002.

The Notice is cancelled because the Corps has determined, through initial plan formulation and preliminary screening of alternative plans, that any potential environmental impacts will not meet the criteria of significance needed for an EIS. The Corps will prepare an Environmental Assessment to document the effects of alternative plans, including the recommended plan.

FOR FURTHER INFORMATION CONTACT: U.S. Army Corps of Engineers, Planning Division, Environmental Branch, P.O. Box 4970, Jacksonville, FL, 32232-0019; Attn: Ms. Janet Cushing or by telephone at 904-232-2259 or e-mail: janet.a.cushing@usace.army.mil.

SUPPLEMENTARY INFORMATION: None.

Dated: January 27, 2004.
James C. Duck,
Chief, Planning Division.

[FR Doc. 04-3610 Filed 2-18-04; 8:45 am]

BILLING CODE 3710-AJ-M